DEPARTMENT OF COMMERCE

Membership of the Office of the Secretary Performance Review Board

AGENCY: Department of Commerce.

ACTION: Notice of membership on the Office of the Secretary Performance Review Board.

SUMMARY: In accordance with 5 U.S.C., 4314 (c)(4), Department of Commerce (DOC) announces the appointment of persons to serve as members of the Office of the Secretary (OS) Performance Review Board (PRB). The OS PRB is responsible for reviewing performance ratings, pay adjustments and bonuses of Senior Executive Service (SES) members. The term of the new members of the OS PRB will expire December 31, 2013.

DATES: Effective Date: The effective date of service of appointees to the Office of the Secretary Performance Review Board is upon publication of this notice.

FOR FURTHER INFORMATION CONTACT: Denise A. Yang, Director, Office of Executive Resources, Office of Human Resources Management, Office of the Director, 14th and Constitution Avenue, NW., Washington, DC 20230, (202) 482-3600.

SUPPLEMENTARY INFORMATION: The names, position titles, and type of appointment of the members of the OS/PRB are set forth below by organization:

Department of Commerce

Office of the Secretary

2011-2013 Performance Review Board Membership

Office of the Secretary

John Connor, Director, Office of White House Liaison.

Earl B. Neal, Director, Office of Information Technology, Security, Infrastructure, and Technology.

Ellen Herbst, Senior Advisor for Policy & Program Integration.

Office of Assistant Secretary for Administration

Suzan J. Aramaki, Director, Office of Civil Rights.

Alfred J. Broadbent, Director, Office of Security.

Economic Development Administration

Barry Bird, Chief Counsel for Economic Development.

National Oceanic and Atmospheric Administration

James M. Turner, Deputy Assistant Secretary for International Affairs.

Office of the General Counsel

Michael A. Levitt, Assistant General Counsel for Legislation and Regulation.

Barbara S. Fredericks, Assistant General Counsel for Administration (Alternate).

Dated: August 22, 2011.
Denise A. Yaag,
Director, Office of Executive Resources.

[FR Doc. 2011-22101 Filed 8-30-11; 8:45 am]

BILLING CODE 3510-BS-M